NUCLEAR REGULATORY COMMISSION

[Docket Nos. 50-277 and 50-278; NRC-2011-0101]

Exelon Generation Company, LLC; PSEG Nuclear, LLC; Peach Bottom Atomic Power Station, Units 2 and 3; Notice of Withdrawal of Application for Amendment to Facility Operating License

The U.S. Nuclear Regulatory Commission (NRC or the Commission) has granted the request of Exelon Generation Company, LLC, (Exelon) and PSEG Nuclear, LLC, to withdraw its application dated March 24, 2010, as supplemented by letters dated July 23, 2010, and January 20, 2011, for proposed amendment to Facility Operating License Nos. DPR-44 and DPR-56 for the Peach Bottom Atomic Power Station (PBAPS), Units 2 and 3, located in York and Lancaster Counties, Pennsylvania.

The proposed amendment would have revised technical specification Section 3.1.7, “Standby Liquid Control (SLC) System,” to extend the completion time from 8 hours to 24 hours for specific conditions where two SLC subsystems are inoperable.

The Commission had previously issued a Notice of Consideration of Issuance of Amendment published in the Federal Register on December 14, 2010 (75 FR 77913). However, by letter dated April 26, 2011, the licensee withdrew the proposed change.

For further details with respect to this action, see the application for amendment dated March 24, 2010, as supplemented by letters dated July 23, 2010, and January 20, 2011, and the licensee's letter dated April 26, 2011, which withdrew the application for license amendment. Documents may be examined, and/or copied for a fee, at the NRC's Public Document Room (PDR), located at One White Flint North, Public File Area O1 F21, 11555 Rockville Pike (first floor), Rockville, Maryland. Publicly available records will be accessible electronically from the Agencywide Documents Access and Management System (ADAMS) Public Electronic Reading Room on the Internet at the NRC Web site, http://www.nrc.gov/reading-rm/adams.html. Persons who do not have access to ADAMS or who encounter problems in accessing the documents located in ADAMS should contact the NRC PDR Reference staff by telephone at 1-800-397-4209, or 301-415-4737 or by e-mail to pdr.resource@nrc.gov.

Dated at Rockville, Maryland this 28th day of April 2011.
For the Nuclear Regulatory Commission.
John D. Hughey,
Project Manager, Plant Licensing Branch LPL1-2, Division of Operating Reactor Licensing, Office of Nuclear Reactor Regulation.

[FR Doc. 2011-10872 Filed 5-3-11; 8:45 am]

BILLING CODE 7590-01-P